GENERAL SERVICES ADMINISTRATION

[OMB Control No. 3090-0329; Docket No. 2025-0001; Sequence No. 5]

Information Collection; Overseas Employment Service Agreement (GSA Form 5040)

AGENCY: Office of Human Resource Management, Strategic Planning, Policy, and Training Division, General Services Administration (GSA).

ACTION: Notice; request for comments.

SUMMARY: Under the provisions of the Paperwork Reduction Act, the Regulatory Secretariat Division will be submitting to the Office of Management and Budget (OMB) a request to review and approve a revision to an existing information collection requirement.

DATES: Submit comments on or before March 28, 2025.

ADDRESSES: Submit comments identified by Information Collection 3090-0329; “Overseas Employment Service Agreement (GSA Form 5040)” to: https://www.regulations.gov. Submit comments via the Federal eRulemaking portal by searching for “Information Collection 3090-0329; Overseas Employment Service Agreement (GSA Form 5040).” Select the link “Submit a Comment” that corresponds with “Information Collection 3090-0329; Overseas Employment Service Agreement (GSA Form 5040).” Follow the instructions provided at the “Submit a Comment” screen. Please include your name, company name (if any), and “Information Collection 3090-0329; Overseas Employment Service Agreement (GSA Form 5040)” on your attached document. If your comment cannot be submitted using https://www.regulations.gov, call or email the points of contact in the FOR FURTHER INFORMATION CONTACT section of this document for alternate instructions.

Instructions: Please submit comments only and cite “Information Collection 3090-0329; Overseas Employment Service Agreement (GSA Form 5040),” in all correspondence related to this collection. Comments received generally will be posted without change to http://www.regulations.gov, including any personal and/or business confidential information provided. To confirm receipt of your comment(s), please check www.regulations.gov, approximately two-to-three days after submission to verify posting.

FOR FURTHER INFORMATION CONTACT: Colin C. Bennett, Human Resources Specialist, Office of Human Resources Management, Strategic Planning, Policy, and Training Division, at telephone 240-418-6822 or via email to colin.bennett@gsa.gov for clarification of content.

SUPPLEMENTARY INFORMATION:

A. Purpose

Federal leave law (5 U.S.C. 6304(b) and 6305) requires that employees be on defined, time-limited, foreign tours of duty as well as have agency agreements in place for return transportation. The Department of State Standardized Regulations (DSSR) covering living quarters allowance (5 U.S.C. 5923(a)(2) and DSSR 031.12) also require documented tours of duty with an agency commitment for return transportation. At GSA, the overseas tour of duty and permanent change of station commitments and requirements are contained within a standard agency form, GSA Form 5040, “Overseas Employment and Service Agreement”. As part of the Federal Travel Regulations (FTR) (44 CFR part 302), when an agency pays for permanent change of station the employee must commit to a period of return agency service (at least one year). This form also contains clauses that serve to create an enforceable service contract under the FTR.

This form was first developed during 2022 and was published for public comment on February 14, 2023 (88 FR 9521) and then on June 8, 2023 (88 FR 37542). Our agency has successfully used this form to determine leave benefits and foreign allowance eligibility, advise employees of their rights and responsibilities, and to help ensure that the human resources and payroll accounting records are accurate before, during and after the permanent change of station.

By using the form, our agency was able to develop a few ideas about how to improve the form, without impacting the amount of time the form takes to fill out by job candidates or current Federal employees. For example, we propose to modify lines 6 and 11 to clarify how to determine the Duty Station Location Code, which is a numeric value assigned by the Office of Personnel Management. For item 13, we propose to reference a new GSA agency form, Form 5047, “Actual Place of Residence Determination”, which must be completed at the same time. In item 15, we propose to clarify foreign allowances and leave benefits that GSA currently allows, due to agency administrative order number 9592. For item 16, the financial liability disclosures, we have added additional disclosure statements taken from a different form, Form 5042, “Home Leave and Renewal Agreement Travel”, which was subsequently developed during 2023 and 2024 and better implements certain language required by the Federal Travel Regulations. For item 17, we propose to add a new table which lists the name of family dependents, which should help the agency better arrange for each family's foreign travel and relocation.

While we do not believe that these small changes and improvements will create any additional burden on job candidates or agency employees, we encourage feedback on the form. We are also receptive to ideas on certain data elements or form questions that are currently missing but should be included in the form.

B. Annual Reporting Burden

Respondents: 25 per year.

Responses per Respondent: 1.

Total Annual Responses: 25.

Hours per Response: 8.

Total Burden Hours: 200.

C. Public Comments

Public comments are solicited to help GSA understand whether or not the modified and improved GSA Form 5040 will help to streamline the current leave and allowance eligibility review and approval process. The agency would also like to know: (a) whether this collection of the additional information (such as list of dependents) is necessary, (b) whether it will have practical utility, (c) whether our estimate of the public burden of this collection of information is accurate (and based on valid assumptions and methodology), (d) whether or not there are ways to enhance the new form's utility and clarity of the information to be collected, and (e) whether or not there might be ways in to minimize the data collection burden through the use of information technology.

Obtaining Copies of Proposals: We have provided a copy of the proposed new draft GSA Form 5040 at the end of this notice below the signature block. A copy of the proposed draft form can alternatively be obtained through GSA's Regulatory Secretariat Division by calling 202-501-4755 or emailing GSARegSec@gsa.gov. Please cite OMB Control No. 3090-0329, Student Loan Repayment Application and Service Agreement (GSA Form 5040), in all correspondence.

Lois Mandell,
Director, Regulatory Secretariat Division, General Services Administration.

BILLING CODE 6820-FM-P

[FR Doc. 2025-01756 Filed 1-24-25; 8:45 am]

BILLING CODE 6820-FM-C